FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A.T.I. North Point, Inc. dba A.T.I. N.P.B., Inc. (NVO), 7 Market Place, New Hope, PA 18938. Officer: Anthony Ferlazzo, President (QI). Application Type: New NVO License.

American Forwarding & Logistics, LLC (NVO & OFF), 3330 NW 53rd Street, Suite 307, Fort Lauderdale, FL 33309. Officers: Ulrike Bracken, Manager (QI), Philip Stachow, Managing Member. Application Type: QI Change.

Cromarti Logistics LLC (NVO), 2810 Grants Lake Blvd., Suite 904, Sugar Land, TX 77479. Officer: Abraham Garza, Member (QI). Application Type: New NVO License.

E-Z Cargo Inc (NVO & OFF), 501 New County Road, Secaucus, NJ 07094. Officers: Alevtina Michina, Vice President (QI), Andrey Gavrilets, President. Application Type: New NVO & OFF License.

Dominicana Pronto Envios Corporation (NVO & OFF), 1100 Barnett Drive, Suite 54, Lake Worth, FL 33461. Officer: Johnny G. Romero, President (QI). Application Type: New NVO & OFF License.

F.H.L. Logistics, Inc. (NVO & OFF), 1354 NW 78th Avenue, Miami, FL 33178. Officers: Abigail Encio, Vice President (QI), Jose L. Tabares, President. Application Type: QI Change.

GPL Logistics, Inc (NVO), 18725 E. Gale Avenue, Suite 250, City of Industry, CA 91748. Officers: Clark Liang, President (QI), Dongmei Pan, Secretary. Application Type: New NVO License.

Helmsman Freight Solutions, LLC (NVO & OFF), 7600 NW 82nd Place, Miami, FL 33166. Officers: Arturo Corona, Vice President and Sales Manager (QI), Teresita Del Calvo, Manager. Application Type: New NVO & OFF License.

Intership, Inc dba Helm Express (NVO & OFF), 6816 E. Orem Drive, Houston, TX 77048. Officer: Yasser Shaikh, President (QI). Application Type: Adding Trade Names iShip and Peninsula Freight & Logistics.

Isewan U.S.A. Inc. (NVO & OFF), 5701 Westpark Drive, Suite 201, Charlotte, NC 28217. Officers: Carl T. Evans, President (QI), Mitsuo Mori, Secretary. Application Type: QI Change.

LCL Logistix USA Inc (NVO & OFF), 646 State Highway 18N, Building A, Suite 102, East Brunswick, NJ 08816. Officers: Arif H. Butt, General Manager (QI), Unni Krishnan Nair, President. Application Type: New NVO & OFF License.

Martik LLC (OFF), 19390 Collins Avenue, Suite 1224, Sunny Isles, FL 33160. Officers: Diana P. Alzate, Managing Member (QI), Oscar Julian Alzate, Managing Member. Application Type: New OFF License.

Matt Global Freight Co. LLC (NVO & OFF), 3517 Langrehr Road, Suite 111, Baltimore, MD 21244. Officers: Mathew Chacko, President (QI), Ann T. Mathews, Vice President. Application Type: Add NVO Service.

Mega Cargo, Inc. (NVO & OFF), 27855 SW 202 Avenue, Homestead, FL 33031. Officers: Mariolys Zayas, Vice President/Secretary/Treasurer (QI), Ariel Travieso, President. Application Type: New NVO & OFF License.

Military Relocation Services, Inc. (NVO & OFF), 815 S. Main Street, Jacksonville, FL 32207. Officers: Stephen F. Crooks, Vice President (QI), Scott Kelly, President. Application Type: Adding NVO Service.

Perfect Marine & Logistics, LLC. (OFF), 7324 Southwest Freeway, Suite 1045, Houston, TX 77074. Officers: Jigneshkumar Ratani, President (QI), Manojkumar B. Ratani, Vice President. Application Type: New OFF License.

Portos Logistics, LLC (NVO & OFF), 5516 NW 72nd Avenue, Suite 5516, Miami, FL 33166. Officer: Jesus A. Herrera, Manager Member (QI). Application Type: New NVO & OFF License.

Rich Pacific USA, Inc. (NVO & OFF), 17540 Colima Road, Rowland Heights, CA 91748. Officers: Jinyi Zhao, Vice President (QI), David Liu, President. Application Type: QI Change.

Solid Trans International Inc (NVO & OFF), 1401 S. Santa Fe Avenue, Compton, CA 90221. Officers: Kuo-Hao (Howard) Hsu, CEO (QI). Application Type: New NVO & OFF License.

Stella Maris International Trading, Inc. (NVO & OFF), 1601 Sahlman Drive, Tampa, FL 33605. Officers: Fernando Perez, Vice President (QI), Nadya Ojeda-Perez, President. Application Type: Adding OFF Service.

Taino Multiservices Express, Corp. (NVO), 2828 NW 17th Avenue, Suite C, Miami, FL 33142. Officers: Carmen M. Arias Olivier, President (QI), Sandra M. Vargas Llaverias, OMGR. Application Type: New NVO License.

TOP Since Logistics, Inc. (NVO & OFF), 1255 Corporate Center Drive, Suite 210, Monterey Park, CA 91754. Officers: Zyn Rhen (Ray) Yeoh, Vice President (QI), Wei (Winnie) Wen, President. Application Type: QI Change.

World of Logistics USA Inc (NVO), 10350 Lands End Drive, Suite 1803, Houston, TX 77099. Officers: Syed S. Nawaz, President (QI), Tallat Shahnawaz, Secretary. Application Type: New NVO License.

By the Commission.
Dated: December 6, 2013.
Rachel E. Dickon,
Assistant Secretary.

[FR Doc. 2013-29554 Filed 12-10-13; 8:45 am]

BILLING CODE 6730-01-P